NUCLEAR REGULATORY COMMISSION

Radiac Research Corp., Brooklyn, New York; Receipt of Request for Action Under 10 CFR 2.206

Notice is hereby given that by petition dated November 3, 2003, Mr. Michael B. Gerrard, representing Neighbors Against Garbage, et al. (petitioners), have requested that the Nuclear Regulatory Commission (NRC) take action with regard to Radiac Research Corporation Brooklyn, New York, a licensee with the New York State Department of Labor.

The petitioners requested that the NRC use its authority to protect the common defense and security under the Atomic Energy Act of 1954 to close the Radiac facility. As the basis for the request, the petitioner stated that the radioactive waste storage operation adjoining a hazardous waste transfer and storage operation at the Radiac Research Corporation in Brooklyn, New York represented a significant risk.

The request is being addressed pursuant to 10 CFR 2.206 of the Commission's regulations. The request has been referred to the Director of the Office of Nuclear Material Safety and Safeguards. As provided by Section 2.206, appropriate action will be taken on this petition within a reasonable time. A copy of the petition is available for inspection in the Agencywide Documents Access and Management System (ADAMS), which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by email to pdr@nrc.gov.

Dated at Rockville, Maryland this 17th day of December, 2003.
For the U.S. Nuclear Regulatory Commission.
Martin J. Virgilio,
Director, Office of Nuclear Material Safety and Safeguards.

[FR Doc. 03-31874 Filed 12-24-03; 8:45 am]

BILLING CODE 7590-01-P